DEPARTMENT OF STATE

[Public Notice 3294]

Bureau of Educational and Cultural Affairs, Armenia Connectivity 2000 Program; Request for Proposals

SUMMARY: The Office of Citizen Exchanges, Youth Programs Division, of the Bureau of Educational and Cultural Affairs announces an open competition for the Armenia Connectivity 2000 Program. Public and private non-profit organizations meeting the provisions described in IRS regulation 26 CFR 1.501(c) may submit proposals to expand the educational opportunities available to secondary school students in Armenia by providing access to the Internet and a related curriculum to help promote civic education and economic reform. The maximum amount of the award will be $954,000.

Program Information

Overview

The Armenia Connectivity 2000 program has been designed to respond to the important need to introduce the youth of Armenia to a broad range of ideas about civil society.

Students and teachers at schools throughout the country need access to models of societal development through civic education. The Internet can provide a wealth of information about democratic societies and a vital forum for the exchange of views with U.S. students and teachers. Through this program Armenian schools will be able to incorporate civics into their curricula and improve general education with Internet resources and access to information under the guidance of specially trained teachers.

The goals of this program are (1) To provide Armenian students with the opportunity to learn democratic values while developing technical computer-based skills, (2) to improve and broaden the civic education curriculum in Armenian schools, (3) to provide access for schools in isolated areas to information about the United States and other democratic societies and about related Internet resources, and (4) to develop and promote linkages to schools in the United States and other countries.

The main components of this program are as follows:

• Selecting schools (Armenian and U.S.),

• Providing access to the Internet to the Armenian schools, including making sites suitable for a computer center, installing hardware and cabling, and ensuring connectivity,

• Connecting students and teachers at Armenian schools with their counterparts at U.S. schools in joint telecurriculum projects,

• Providing training for teacher-trainers who will in turn provide training to teachers and students in the selected schools and, later, to other community members,

• Developing an educational curriculum that utilizes the Internet and coordinating the use of curricula from other related programs.

Guidelines

This grant should begin on or about July 15, 2000, subject to availability of funds. The grant period should be two years.

The grant recipient will select schools in Armenia for the installation of a computer center, the provision of training, and the implementation of a civic education curriculum that emphasizes use of the Internet. The recommended minimum number of schools is 40. Proposals that can include up to or more than 70 schools through greater efficiencies and cost-sharing will be considered more competitive. These selected schools will be partnered, either one-to-one or in small groups, with U.S. schools so that Armenian students and faculty may work on joint projects with their American peers over the Internet in order to practice their newly-developed knowledge of using this tool for educational purposes.

The schools will be provided with computers, printers, and other items necessary to afford them Internet connectivity. This will be accompanied by improvements to the classrooms to ensure that the facilities are suitable and secure. Once established, a center will be staffed by a site monitor who will oversee its use.

At an early stage of the project, the grant recipient will train Armenians in order to develop a core group of teacher-trainers in Internet education, American Studies, English, civic education, curriculum development, and teaching methodologies. In addition to training at sites in Yerevan and other regions of Armenia, a limited number of exchanges—Armenian trainers to the United States and U.S. trainers to Armenia—will facilitate these training efforts and bring the new trainers in contact with teachers who are skilled in using the Internet in the classroom.

The regional teacher-trainers will be responsible for conducting local training at a certain number of schools in their region. Their training of teachers and students will focus on basic computer skills, use of electronic mail and bulletin boards, and use of the World Wide Web for research and for supplementing lesson plans. The regional trainers will also supervise the site monitors.

Once schools have access to the Internet and the students and teachers have acquired basic computer and Internet skills, the program focus will turn to the development of the content of Internet activities, an essential component. The primary goal of this program is for students and teachers to use the Internet to learn about civil society, including the basics of democracy, volunteerism, conflict resolution, good citizenship, and civic responsibility, such as voting. A secondary goal is for students and teachers to use the Internet for English and American Studies topics, such as literature, history, government, and geography, and for the improvement of teaching of such subjects as economics and social studies researching the riches of the Internet and learning to use them in the normal curriculum. The development of a curriculum with these purposes will be a key responsibility of the grant recipient.

Programs must comply with J-1 visa regulations. Please refer to Solicitation Package for further information.

Budget Guidelines

The grant award may not exceed $954,000. Organizations with less than four years of experience in conducting international exchange programs are not eligible for this grant.

Applicants must submit a comprehensive budget for the entire program. There must be a summary budget as well as breakdowns reflecting both administrative and program budgets. Applicants should provide separate sub-budgets for each program component, phase, location, or activity to provide clarification. Administrative costs, including indirect rates, should be kept to a minimum and cost-shared as possible.

Please refer to the Solicitation Package for complete budget guidelines and formatting instructions.

Announcement Title and Number: All correspondence with the Bureau concerning this RFP should reference the above title and number ECA/PE/C-00-49.

FOR FURTHER INFORMATION CONTACT: The Youth Programs Division, Office of Citizen Exchanges, ECA/PE/C/PY, Room 568, U.S. Department of State, 301 4th Street, SW, Washington, DC 20547, (202) 619-6299; Fax: (202) 619-5311; E-mail: clantz@pd.state.gov to request a Solicitation Package. The Solicitation Package contains detailed award criteria, required application forms, specific budget instructions, and standard guidelines for proposal preparation. Please specify Bureau Program Officer Carolyn Lantz on all other inquiries and correspondence.

Please read the complete Federal Register announcement before sending inquiries or submitting proposals. Once the RFP deadline has passed, Bureau staff may not discuss this competition with applicants until the proposal review process has been completed.

To Download a Solicitation Package Via Internet

The entire Solicitation Package may be downloaded from the Bureau's website at http://exchanges.state.gov/education/rfps. Please read all information before downloading.

Deadline for Proposals

All proposal copies must be received at the Bureau of Educational and Cultural Affairs by 5 p.m. Washington, DC, time on Friday, June 2, 2000. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/PE/C-00-49, Program Management, ECA/EX/PM, Room 336, 301 4th Street, SW, Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the U.S. Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the FREEDOM Support Act of 1992.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 10, 2000.
Evelyn S. Lieberman,
Under Secretary for Public Diplomacy and Public Affairs, U.S. Department of State.

[FR Doc. 00-9801 Filed 4-18-00; 8:45 am]

BILLING CODE 4710-11-P